FEDERAL COMMUNICATIONS COMMISSION

Sunshine Act Meeting; Open Commission Meeting; January 31, 2012

January 24, 2012

The Federal Communications Commission will hold an Open Meeting on the subjects listed below on Tuesday, January 31, 2012. The meeting is scheduled to commence at 10:30 a.m. in Room TW-C305, at 445 12th Street SW., Washington, DC.

Item No. | Bureau | Subject
1 | Wireline Competition | Title: Lifeline and Link Up Reform and Modernization (WC Docket No. 11-42); Federal-State Joint Board on Universal Service (CC Docket No. 96-45) and Lifeline and Link Up (WC Docket No. 03-109)
|  | Summary: The Commission will consider a Report and Order and Further Notice of Proposed Rulemaking to comprehensively reform the Lifeline program to ensure universal availability of communications services to low-income Americans while minimizing the universal service contribution burden, including by eliminating waste, fraud, and abuse; strengthening program oversight and administration; and modernizing Lifeline to support broadband adoption.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at (202) 418-0530 (voice), (202) 418-0432 (tty).

Additional information concerning this meeting may be obtained from Audrey Spivack, Office of Media Relations, (202) 418-0500; TTY 1-(888) 835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2012-1970 Filed 1-25-12; 4:15 pm]

BILLING CODE 6712-01-P